DEPARTMENT OF ENERGY

Federal Energy Regulatory Commission

[Docket No. IC19-1-000]

Commission Information Collection Activities (FERC-732); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-732 (Electric Rate Schedules and Tariffs: Long-Term Firm Transmission Rights in Organized Electricity Markets) and submitting the information collection to the Office of Management and Budget (OMB) for review. Any interested person may file comments directly with OMB and should address a copy of those comments to the Commission as explained below. On October 23, 2018, the Commission published a Notice in the Federal Register in Docket No. IC19-1-000 requesting public comments. The Commission received no public comment.

DATES: Comments on the collection of information are due March 4, 2019.

ADDRESSES: Comments filed with OMB, identified by OMB Control No. 1902-0245, should be sent via email to the Office of Information and Regulatory Affairs: oira_submission@omb.gov. Attention: Federal Energy Regulatory Commission Desk Officer.

A copy of the comments should also be sent to the Commission, in Docket No. IC19-1-000, by either of the following methods:

• eFiling at Commission's Website: http://www.ferc.gov/docs-filing/efiling.asp

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-732, Electric Rate Schedules and Tariffs: Long-Term Firm Transmission Rights in Organized Electricity Markets.

OMB Control No.: 1902-0245.

Type of Request: Three-year extension of the FERC-732 information collection requirement with no changes to the current reporting requirements.

Abstract: 18 CFR part 42 provides the reporting requirements of FERC-732 as they pertain to long-term transmission rights. To implement section 1233 ¹ of the Energy Policy Act of 2005 (EPAct 2005),² the Commission requires each transmission organization that is a public utility with one or more organized electricity markets to make available long-term firm transmission rights that satisfy each of the Commission's guidelines.³

¹ 16 U.S.C. 824.

² 6 U.S.C. 824Q.

³ 18 CFR 42.1(d).

The FERC-732 regulations require that transmission organizations (that are public utilities with one or more organized electricity markets) choose one of two ways to file:

• File tariff sheets making long-term firm transmission rights available that are consistent with each of the guidelines established by FERC.

• File an explanation describing how their existing tariffs already provide long-term firm transmission rights that are consistent with the guidelines.

Additionally, the Commission requires each transmission organization to make its transmission planning and expansion procedures and plans available to the public. FERC-732 enables the Commission to exercise its wholesale electric rate and electric power transmission oversight and enforcement responsibilities in accordance with the FPA, the Department of Energy Organization Act (DOE Act), and EPAct 2005.

Type of Respondents: Public utility with one or more organized electricity markets

Estimate of Annual Burden: ⁴ The Commission estimates the total burden and cost ⁵ for this information collection as follows.

⁴ Burden is defined as the total time, effort, or financial resources expended by persons to generate, maintain, retain, or disclose or provide information to or for a Federal agency. For further explanation of what is included in the information collection burden, refer to 5 CFR 1320.3.

⁵ FERC staff estimates that industry costs for salary plus benefits are similar to Commission costs. The cost figure is the FY2018 FERC average annual salary plus benefits ($164,820/year or $79/hour).

FERC-732—Electric Rate Schedules and Tariffs: Long-Term Firm Transmission Rights in Organized Electricity Markets
| Number of respondents | Annual number of responses per respondent | Total number of responses | Total annual burden hours & total annual cost ($) | Cost per respondent ($)
| (1) | (2) | (1) * (2) = (3) | (3) * (4) = (5) | (5) ÷ (1)
Public utility with one or more organized electricity markets | 1 | 1 | 1 | 1,180 hrs.; $93,220 | $93,220

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 18, 2019.
Kimberly D. Bose,
Secretary.

[FR Doc. 2019-00453 Filed 1-30-19; 8:45 am]

BILLING CODE 6717-01-P